DEPARTMENT OF COMMERCE

International Trade Administration

[A-552-801]

Certain Frozen Fish Fillets From the Socialist Republic of Vietnam: Extension of Time Limit for the Final Results of the Sixth Antidumping Duty Administrative and New Shipper Reviews

AGENCY: Import Administration, International Trade Administration, Department of Commerce.

DATES: Effective Date: December 23, 2010.

FOR FURTHER INFORMATION CONTACT: Emeka Chukwudebe or Javier Barrientos, AD/CVD Operations, Office 9, Import Administration, International Trade Administration, U.S. Department of Commerce, 14th Street and Constitution Avenue, NW., Washington, DC 20230; telephone (202) 482-0219 or (202) 482-2243, respectively.

Background

On September 15, 2010, the Department of Commerce (“Department”) published in the Federal Register the Preliminary Results of the sixth administrative and new shipper reviews of certain frozen fish fillets from the Socialist Republic of Vietnam covering the period August 1, 2008, through July 31, 2009.¹ Subsequent to the publication of the Preliminary Results, the Department extended the deadlines for submission of surrogate values, rebuttal comments and case briefs.² The final results are currently due no later than January 13, 2011.

¹ See Certain Frozen Fish Fillets From the Socialist Republic of Vietnam: Notice of Preliminary Results and Partial Rescission of the Sixth Antidumping Duty Administrative Review and Sixth New Shipper Review, 75 FR 56062 (September 15, 2010) (“Preliminary Results”).

² See Letter from Alex Villanueva, Program Manager, Office 9, to Interested Parties: Extending Surrogate Value Submission & Briefing Schedule for 6th New Shipper and 6th Antidumping Administrative Reviews of Certain Frozen Fish Fillets from the Socialist Republic of Vietnam (September 21, 2010). See also, Letter from Alex Villanueva, Program Manager, Office 9, to Interested Parties: Extending Surrogate Value Submission for 6th New Shipper and 6th Antidumping Administrative Reviews of Certain Frozen Fish Fillets from the Socialist Republic of Vietnam (October 13, 2010). See also Memorandum For: All Interested Parties, from Emeka Chukwudebe, Case Analyst, Import Administration, dated October 22, 2010. See also Memorandum For: All Interested Parties, from Javier Barrientos, Case Analyst, Import Administration, dated November 22, 2010.

Extension of Time Limit for the Final Results

Section 751(a)(3)(A) of the Tariff Act of 1930, as amended (“Act”), requires that the Department issue the final results of an administrative review within 120 days after the date on which the preliminary results are published. If it is not practicable to complete the review within that time period, section 751(a)(3)(A) of the Act allows the Department to extend the deadline for the final results to a maximum of 180 days after the date on which the preliminary results are published.

Due to the voluminous surrogate value data on the record and the additional time provided to parties to review and submit rebuttal comments and case briefs, the Department finds that it is not practicable to review the surrogate value data and analyze the case brief comments within the scheduled time limit. Therefore, in accordance with section 751(a)(3)(A) of the Act, the Department is fully extending the time for the completion of the final results of these reviews to March 14, 2011.

We are issuing and publishing this notice in accordance with sections 751(a)(1) and 777(i)(1) of the Act.

Dated: December 17, 2010.
Gary Taverman,
Acting Deputy Assistant Secretary for Antidumping and Countervailing Duty Operations.

[FR Doc. 2010-32339 Filed 12-22-10; 8:45 am]

BILLING CODE 3510-DS-P